REGULATORY INFORMATION SERVICE CENTER

DEPARTMENT OF AGRICULTURE

DEPARTMENT OF COMMERCE

DEPARTMENT OF DEFENSE

DEPARTMENT OF EDUCATION

DEPARTMENT OF ENERGY

DEPARTMENT OF HEALTH AND HUMAN SERVICES

DEPARTMENT HOUSING AND URBAN DEVELOPMENT

DEPARTMENT OF THE INTERIOR

DEPARTMENT OF JUSTICE

DEPARTMENT OF LABOR

DEPARTMENT OF STATE

DEPARTMENT OF TRANSPORTATION

DEPARTMENT OF TREASURY

DEPARTMENT OF VETERANS AFFAIRS

AGENCY FOR INTERNATIONAL DEVELOPMENT

ARCHITECTURAL AND TRANSPORTATION BARRIERS COMPLIANCE BOARD

COMMISSION ON CIVIL RIGHTS

CORPORATION FOR NATIONAL AND COMMUNITY SERVICE

COURT SERVICES AND OFFENDER SUPERVISION AGENCY FOR THE DISTRICT OF COLUMBIA

ENVIRONMENTAL PROTECTION AGENCY

EQUAL EMPLOYMENT OPPORTUNITY COMMISSION

FEDERAL EMERGENCY MANAGEMENT AGENCY

FEDERAL MEDIATION AND CONCILIATION SERVICE

GENERAL SERVICES ADMINISTRATION

MORRIS K. UDALL FOUNDATION-U.S. INSTITUTE FOR ENVIRONMENTAL CONFLICT RESOLUTION

NATIONAL AERONAUTICS AND SPACE ADMINISTRATION

NATIONAL ARCHIVES AND RECORDS ADMINISTRATION

NFAH-NATIONAL ENDOWMENT FOR THE ARTS

NFAH-NATIONAL ENDOWMENT FOR THE HUMANITIES

NATIONAL SCIENCE FOUNDATION

OFFICE OF FEDERALHOUSING ENTERPRISE OVERSIGHT

OFFICE OF GOVERNMENT ETHICS

OFFICE OF MANAGEMENT AND BUDGET

OFFICE OF PERSONNEL MANAGEMENT

PEACE CORPS

PENSION BENEFIT GUARANTY CORPORATION

PRESIDIO TRUST

RAILROAD RETIREMENT TRUST

SELECTIVE SERVICE COMMISSION

SMALL BUSINESS ADMINISTRATION

SOCIAL SECURITY ADMINISTRATION

TENNESSEE VALLEY AUTHORITY

DEPARTMENT OF DEFENSE/GENERAL SERVICES ADMINISTRATION/NATIONAL

AERONAUTICS AND SPACE ADMINISTRATION

COMMODITY FUTURES TRADING COMMISSION

CONSUMER PRODUCTION SAFETY COMMISSION

FARM CREDIT ADMINISTRATION

FARM CREDIT SYSTEM INSURANCE CORPORATION

FEDERAL COMMUNICATIONS COMMISSION

FEDERAL DEPOSIT INSURANCE CORPORATION

FEDERAL ENERGY REGULATORY COMMISSION

FEDERAL HOUSING FINANCE BOARD

FEDERAL MARITIME COMMISSION

FEDERAL RESERVE SYSTEM

FEDERAL TRADE COMMISSION

NATIONAL CREDIT UNION ADMINISTRATION

NATIONAL INDIAN GAMING COMMISSION

NUCLEAR REGULATORY COMMISSION

SECURITIES AND EXCHANGE COMMISSION

SURFACE TRANSPORTATION BOARD

Semiannual Regulatory Agenda

Correction

In the proposed rule documents printed as a part of the Unified Agenda of Federal Regulatory and Deregulatory Actions, Parts II through LXII, in (today's issue) the issue of Monday, December 3, 2001, pages 61125-62905, the time on all file lines appeared as 8:45am. They should be corrected to read 9:45am.

[FR Docs. C1-28099; C1-27113; C1-26030; C1-23849; C1-23850; C1-28100; C1-27742; C1-25307; C1-26703; C1-26704; C1-25308; C1-27114; C1-27743; C1-27115; C1-25309; C1-27116; C1-23851; C1-25310; C1-23852; C1-26031; C1-26705; C1-25311; C1-25312; C1-23853; C1-26032; C1-23864; C1-23854; C1-23855; C1-23856; C1-25313; C1-28101; C1-23857; C1-23858; C1-25314; C1-26033; C1-28070; C1-23859; C1-23860; C1-25315; C1-23861; C1-23862; C1-23863; C1-26034; C1-25316; C1-23865; C1-23866; C1-23867; C1-23868; C1-23869; C1-23870; C1-23871; C1-25317; C1-23872; C1-25318; C1-23873; C1-23874; C1-25319; C1-25320; C1-23875; C1-26035; C1-23876 Filed 11-30-01; 5:00 pm]

BILLING CODE 1505-01-D